NATIONAL AERONAUTICS AND SPACE ADMINISTRATION

[Notice: (18-020)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Wednesday, March 28, 2018, 1:00-5:00 p.m.; and Thursday, March 29, 2018, 9:00 a.m.-4:00 p.m., Eastern Time.

ADDRESSES: NASA Headquarters, Program Review Center (PRC), Room 9H40, 300 E Street SW, Washington, DC 20546.

FOR FURTHER INFORMATION CONTACT: Ms. Marla King, NAC Administrative Officer, NASA Headquarters, Washington, DC 20546, (202) 358-1148 or marla.k.king@nasa.gov.

SUPPLEMENTARY INFORMATION: This meeting will be open to the public up to the capacity of the meeting room. This meeting is also available telephonically and by WebEx. You must use a touch-tone phone to participate in this meeting. Any interested person may dial the Toll Number 1-312-470-0117 or Toll Free Number 888-603-9752 and then the numeric passcode 4107352, followed by the # sign, on both days. Note: If dialing in, please “mute” your phone. To join via WebEx, the link is https://nasa.webex.com/. The meeting number on March 28 is 993 869 082 and the meeting password is P3uFaMc* (case sensitive); the meeting number on March 29 is 998 107 840 and the meeting password is Qpkvtz@7 (case sensitive).

The agenda for the meeting will include reports from the following:

—Aeronautics Committee

—Human Exploration and Operations Committee

—Science Committee

—Technology, Innovation and Engineering Committee

—Ad Hoc Task Force on STEM Education

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Ms. Marla King via email at marla.k.king@nasa.gov. It is imperative that the meeting be held on these dates to the scheduling priorities of the key participants.

Patricia D. Rausch,
Advisory Committee Management Officer, National Aeronautics and Space Administration.

[FR Doc. 2018-05053 Filed 3-12-18; 8:45 am]

BILLING CODE 7510-13-P